DEPARTMENT OF EDUCATION

National Board for Education Sciences

AGENCY: Department of Education, Institute of Education Sciences.

ACTION: Notice of An Open Meeting.

SUMMARY: This notice sets forth the schedule and proposed agenda of an upcoming open meeting of the National Board for Education Sciences. The notice also describes the functions of the Committee. Notice of this meeting is required by section 10(a)(2) of the Federal Advisory Committee Act and is intended to notify the public of their opportunity to attend.

DATES: May 20 and 21, 2009.

Time: May 20, 10 a.m. to 5:30 p.m.; May 21, 8:30 a.m. to 1 p.m.

ADDRESSES: 80 F Street, NW., Room 100, Washington, DC 20208.

FOR FURTHER INFORMATION CONTACT: Norma Garza, Executive Director, National Board for Education Sciences, 555 New Jersey Ave., NW., Room 627H, Washington, DC 20208; phone: (202) 219-2195; fax: (202) 219-1466; e-mail: Norma.Garza@ed.gov.

Individuals who use a telecommunications device for the deaf (TDD) may call the Federal Information Relay Service (FRS) at 1-800-877-8339.

SUPPLEMENTARY INFORMATION: The National Board for Education Sciences is authorized by section 116 of the Education Sciences Reform Act of 2002. The Board advises the Director of the Institute of Education Sciences (IES) on the establishment of activities to be supported by the Institute, on the funding for applications for grants, contracts, and cooperative agreements for research after the completion of peer review, and reviews and evaluates the work of the Institute.

On May 20 the Board will receive a briefing from the Acting Director and IES Commissioners and staff on its activities and progress reports on projects underway since January 2009. These presentations will begin at 10:15 a.m. and continue until noon.

From 1:15 p.m. to 5:30 p.m. the Board will have a presentation on the Evaluation of the Impact of the DC Choice Program by Patrick Wolf, Principal Investigator, University of Arkansas. On May 21, the Board will review the prior day's activities and current agenda from 8:30 a.m. to 8:45 a.m., followed by a presentation and discussion from 8:45 a.m. to 10:15 a.m. on the What Works Clearinghouse Practice Guides. From 10:30 a.m. to 11:15 a.m., the Board will have a presentation by Jill Constantine of Mathematica Policy Research on An Evaluation of Teachers Trained through Different Routes to Certification. Following a 15 minute break, the Board will discuss its annual report as well as its plans and agenda for the future. The meeting will adjourn at 12:30 p.m.

A final agenda will be available from Norma Garza (see contact information above) on May 13. Individuals who will need accommodations for a disability in order to attend the meeting (e.g., interpreting services, assistance listening devices, or materials in alternative format) should notify Norma Garza no later than May 8. We will attempt to meet requests for accommodations after this date but cannot guarantee their availability. The meeting site is accessible to individuals with disabilities.

Records are kept of all Committee proceedings and are available for public inspection at 555 New Jersey Ave., NW., Room 627 H, Washington, DC 20208, from the hours of 9 a.m. to 5 p.m., Eastern Standard Time Monday through Friday.

Electronic Access to This Document: You may view this document, as well as all other documents of this Department published in the Federal Register, in text or Adobe Portable Document Format (PDF) on the Internet at the following site: http://www.ed.gov/news/fed-register/index.html.

To use PDF, you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Sue Betka,
Acting Director, Institute of Education Sciences.

[FR Doc. E9-10294 Filed 5-4-09; 8:45 am]

BILLING CODE 4000-01-P